DEPARTMENT OF STATE

[Public Notice 5479]

Determination on U.S. Position on Proposed European Bank for Reconstruction and Development (EBRD) Projects in Serbia and Bosnia and Herzegovina

Pursuant to section 561 of the Foreign Operations, Export Financing, and Related Programs Appropriations Act, 2006 (Pub. L. 109-102) (FOAA), and Department of State Delegation of Authority Number 289, I hereby determine that a 25.4 million euro investment package for the Balkan Accession Fund C.V. (“BAF”), a limited partnership incorporated in the Netherlands Antilles which will mobilize private sector funds to enable the BAF to make equity and equity-related investments in a wide variety of sectors, and a 12 million euro sovereign loan to Bosnia and Herzegovina for the purchase of air navigation, communication and meteorological equipment, software and training services to support the establishment of a new Air Navigation Services Provider will contribute to a stronger economy in Serbia and the Republika Srpska in Bosnia and Herzegovina, directly supporting implementation of the Dayton Accords. I therefore waive the application of Section 561 of the FOAA to the extent that provision would otherwise prevent the U.S. Executive Directors of the EBRD from voting in favor of these projects.

This Determination shall be reported to the Congress and published in the Federal Register.

Dated: July 20, 2006.
Daniel Fried,
Assistant Secretary of State for European and Eurasian Affairs, Department of State.

[FR Doc. E6-12110 Filed 7-27-06; 8:45 am]

BILLING CODE 4710-23-P